DEPARTMENT OF ENERGY

Federal Energy Regulatory Commission

Combined Notice of Filings #1

Take notice that the Commission received the following electric corporate filings:

Docket Numbers: EC19-23-000.

Applicants: sPower OpCo A, LLC.

Description: Errata to November 6, 2018 Application for Authorization Under Section 203 of the Federal Power Act, et al. of sPower OpCo A, LLC.

Filed Date: 11/14/18.

Accession Number: 20181114-5155.

Comments Due: 5 p.m. ET 11/27/18.

Take notice that the Commission received the following exempt wholesale generator filings:

Docket Numbers: EG19-20-000.

Applicants: KCE NY 1, LLC.

Description: Notice of Self Certification of EWG Status for KCE NY 1, LLC.

Filed Date: 11/16/18.

Accession Number: 20181116-5154.

Comments Due: 5 p.m. ET 12/7/18.

Docket Numbers: EG19-21-000.

Applicants: DG Whitefield LLC.

Description: Notice of Exempt Wholesale Generator Status of DG Whitefield LLC.

Filed Date: 11/16/18.

Accession Number: 20181116-5180.

Comments Due: 5 p.m. ET 12/7/18.

Docket Numbers: EG19-22-000.

Applicants: Springfield Power, LLC.

Description: Notice of Exempt Wholesale Generator Status of Springfield Power, LLC.

Filed Date: 11/16/18.

Accession Number: 20181116-5185.

Comments Due: 5 p.m. ET 12/7/18.

Take notice that the Commission received the following electric rate filings:

Docket Numbers: ER10-1580-017.

Applicants: Saguaro Power Company, A Limited Partnership.

Description: Notice of Non-Material Change in Status of Saguaro Power Company, A Limited Partnership.

Filed Date: 11/15/18.

Accession Number: 20181115-5195.

Comments Due: 5 p.m. ET 12/6/18.

Docket Numbers: ER17-2059-002; ER12-672-011; ER12-673-011.

Applicants: Puget Sound Energy, Inc., Brea Generation LLC, Brea Power II, LLC.

Description: Notice of Non-Material Change in Status of Puget Sound Energy, Inc., et al.

Filed Date: 11/15/18.

Accession Number: 20181115-5225.

Comments Due: 5 p.m. ET 12/6/18.

Docket Numbers: ER18-1169-004.

Applicants: California Independent System Operator Corporation.

Description: Compliance filing: 2018-11-16 Commitment Cost Enhancements Phase 3 Effective Date Compliance to be effective 4/1/2019.

Filed Date: 11/16/18.

Accession Number: 20181116-5031.

Comments Due: 5 p.m. ET 12/7/18.

Docket Numbers: ER19-350-000.

Applicants: PacifiCorp.

Description: § 205(d) Rate Filing: Avista Exchange Service Agreement for Nichols Pumping Load to be effective 11/1/2018.

Filed Date: 11/15/18.

Accession Number: 20181115-5168.

Comments Due: 5 p.m. ET 12/6/18.

Docket Numbers: ER19-351-000.

Applicants: Southwest Power Pool, Inc.

Description: § 205(d) Rate Filing: 1518R16 Arkansas Electric Cooperative Corp NITSA NOA to be effective 12/1/2018.

Filed Date: 11/16/18.

Accession Number: 20181116-5059.

Comments Due: 5 p.m. ET 12/7/18.

Docket Numbers: ER19-352-000.

Applicants: Alabama Power Company.

Description: § 205(d) Rate Filing: Quitman Solar LGIA Filing to be effective 11/1/2018.

Filed Date: 11/16/18.

Accession Number: 20181116-5060.

Comments Due: 5 p.m. ET 12/7/18.

Docket Numbers: ER19-353-000.

Applicants: Southern California Edison Company.

Description: § 205(d) Rate Filing: Letter Agreement ORNI 34 LLC Vallecito Energy Storage SA No. 1045 to be effective 11/9/2018.

Filed Date: 11/16/18.

Accession Number: 20181116-5085.

Comments Due: 5 p.m. ET 12/7/18.

Docket Numbers: ER19-354-000.

Applicants: California Independent System Operator Corporation.

Description: § 205(d) Rate Filing: 2018-11-16 Generator Contingency and Remedial Action Scheme Amendment to be effective 3/1/2019.

Filed Date: 11/16/18.

Accession Number: 20181116-5087.

Comments Due: 5 p.m. ET 12/7/18.

Docket Numbers: ER19-355-000.

Applicants: ITC Midwest LLC.

Description: Application for Authorization for Abandoned Plant Incentive of ITC Midwest LLC.

Filed Date: 11/16/18.

Accession Number: 20181116-5130.

Comments Due: 5 p.m. ET 12/7/18.

Docket Numbers: ER19-356-000.

Applicants: Southwest Power Pool, Inc.

Description: § 205(d) Rate Filing: Revisions to Require All VERs to Register and Convert to DVERs to be effective 1/16/2019.

Filed Date: 11/16/18.

Accession Number: 20181116-5137.

Comments Due: 5 p.m. ET 12/7/18.

Docket Numbers: ER19-357-000.

Applicants: KCE NY 1, LLC.

Description: Baseline eTariff Filing: KCE NY 1, LLC Market Based Rate Filing to be effective 1/15/2019.

Filed Date: 11/16/18.

Accession Number: 20181116-5153.

Comments Due: 5 p.m. ET 12/7/18.

Docket Numbers: ER19-358-000.

Applicants: DG Whitefield LLC.

Description: Baseline eTariff Filing: Baseline new to be effective 1/16/2019.

Filed Date: 11/16/18.

Accession Number: 20181116-5181.

Comments Due: 5 p.m. ET 12/7/18.

Docket Numbers: ER19-359-000.

Applicants: Springfield Power, LLC.

Description: Baseline eTariff Filing: Baseline new to be effective 1/16/2019.

Filed Date: 11/16/18.

Accession Number: 20181116-5183.

Comments Due: 5 p.m. ET 12/7/18.

Take notice that the Commission received the following electric reliability filings:

Docket Numbers: RR17-6-000.

Applicants: North American Electric Reliability Corporation.

Description: Compliance Filing of the North American Electric Reliability Corporation in Response to Order Approving in Part and Denying in Part Amendments to the Electric Reliability Organizations's Rules of Procedure.

Filed Date: 11/16/18.

Accession Number: 20181116-5083.

Comments Due: 5 p.m. ET 12/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2018.
Nathaniel J. Davis, Sr.,
Deputy Secretary.

[FR Doc. 2018-25754 Filed 11-26-18; 8:45 am]

BILLING CODE 6717-01-P